OFFICE OF PERSONNEL MANAGEMENT

5 CFR Part 532

RIN 3206-AI75

Prevailing Rate Systems; Abolishment of the King, WA, Nonappropriated Fund Wage Area

AGENCY: Office of Personnel Management.

ACTION: Final rule.

SUMMARY: The Office of Personnel Management is issuing a final rule that will abolish the King, Washington, nonappropriated fund (NAF) Federal Wage System (FWS) wage area, establish a new Snohomish, WA, NAF FWS wage area, and remove Whatcom County, WA, as an area of application. It is necessary to abolish the King wage area and establish a new Snohomish wage area because the King wage area's host installation, Naval Station Puget Sound, has closed. This closure left the Department of Defense without an installation in the survey area capable of hosting annual local wage surveys. It is necessary to remove Whatcom County because NAF FWS employees no longer work in the county.

DATES: Effective Date: This regulation is effective on May 5, 2000.

FOR FURTHER INFORMATION CONTACT: Jennifer Hopkins by phone at (202) 606-2848, by FAX at (202) 606-0824, or by email at jdhopkin@opm.gov.

SUPPLEMENTARY INFORMATION: On November 15, 1999, the Office of Personnel Management (OPM) published a proposed rule (64 FR 61793) to abolish the King, Washington, nonappropriated fund (NAF) Federal Wage System (FWS) wage area, establish a new Snohomish, WA, NAF FWS wage area, and remove Whatcom County, WA, as an area of application. Under section 5343 of title 5, United States Code, OPM is responsible for defining FWS wage areas. For this purpose, we follow the regulatory criteria established in § 532.219(b) of title 5, Code of Federal Regulations.

The King wage area currently has one survey county, King County, and four area of application counties, Island, Snohomish, Whatcom, and Yakima Counties, WA. The closure of the King wage area's host activity, Naval Station Puget Sound, left the Department of Defense (DOD) without an activity in the survey area with the capability to conduct annual local NAF wage surveys. In July 1996, DOD scheduled a full-scale wage survey in the King NAF wage area. The local wage survey committee had to conduct the King survey from Naval Station Everett in Snohomish County. Because the host installation closed and relocated to Snohomish County, we are establishing Snohomish County as a new NAF wage area. Snohomish County meets the regulatory requirements for an NAF survey area. Approximately 103 NAF FWS employees work at Naval Station Everett, and the base has the capability to host annual local wage surveys. Also, Snohomish County has more than the required minimum number of private enterprise employees in establishments within survey specifications.

We are removing Whatcom County from an NAF wage area definition because Blaine Air Force Station has closed, and NAF FWS employees no longer work in the county. Under 5 U.S.C. 5343(a)(1)(B)(i), NAF wage areas “shall not extend beyond the immediate locality in which the particular prevailing rate employees are employed.” Therefore, we are not defining Whatcom County to an NAF wage area.

The new Snohomish, WA, NAF wage area will have one survey county, Snohomish County, and three area of application counties, Island, King, and Yakima Counties, WA. DOD will order full-scale wage surveys in the Snohomish, WA, NAF wage area in July of even fiscal years, with the first full-scale wage survey for the Snohomish wage area beginning in July 2000. The Federal Prevailing Rate Advisory Committee, the national labor-management committee responsible for advising OPM on matters concerning the pay of FWS employees, has reviewed and concurred by consensus with these changes. The proposed rule had a 30-day public comment period, during which OPM did not receive any comments.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

Office of Personnel Management.
Janice R. Lachance,
Director,

Accordingly, the Office of Personnel Management amends 5 CFR part 532 as follows:

PART 532—PREVAILING RATE SYSTEMS

1. The authority citation for part 532 continues to read as follows:

Authority: 5 U.S.C. 5343, 5346; § 532.707 also issued under 5 U.S.C. 552.

2. Appendix B to subpart B of part 532 is amended for the State of Washington by removing the entry for “King” and by adding alphabetically a new entry for “Snohomish” with a beginning survey month of “July” and a fiscal year of full-scale survey of “Even”.

3. Appendix D to subpart B is amended by removing the wage area listing for King, Washington, and by adding alphabetically a new entry for Snohomish, Washington, to read as follows:

Appendix D to Subpart B of Part 532—Nonappropriated Fund Wage and Survey Areas

* * * * *

WASHINGTON

* * * * *

SNOHOMISH

Survey Area

Washington:

Snohomish

Area of Application. Survey area plus:

Washington:

Island

King

Yakima

[FR Doc. 00-8333 Filed 4-4-00; 8:45 am]

BILLING CODE 6325-01-U